NUCLEAR REGULATORY COMMISSION

Notice of Public Workshop on Prioritizing Nuclear Materials Regulatory Applications for New Risk-Informed Approaches

AGENCY: U.S. Nuclear Regulatory Commission.

ACTION: Notice of meeting.

SUMMARY: The U.S. Nuclear Regulatory Commission (NRC) staff is in the initial stage of developing an approach for using risk information in the nuclear materials regulatory process. As a first step, the NRC staff has developed draft screening criteria for new regulatory applications to meet to be candidates for expanded use of risk information. The NRC staff has scheduled a workshop to (1) solicit public input in the development of these screening criteria and their applications, and (2) solicit public input in the process for developing appropriate nuclear materials safety goals. The meeting is open to the public and all interested parties may attend and provide comments.

DATES: The workshop will be held on April 25, 2000 from 9:00 a.m. to 5:00 p.m. and April 26, 2000 from 8:30 a.m. to 12:00 noon. Submit comments by May 19, 2000.

ADDRESSES: Exact location of the workshop has yet to be determined, but will be in the Washington, D.C. metropolitan area. When available, the location will be posted on the NRC website (www.nrc.gov) under meeting notices. Mail written comments to David L. Meyer, Chief, Rules and Directives Branch, T6-D59, Washington, D.C., 20555-0001.

FOR FURTHER INFORMATION, CONTACT: Stacey Rosenberg, Mail Stop T-8-K10, U.S. Nuclear Regulatory Commission, Washington, DC 20555-0001. Telephone: (301) 415-8117; Internet: SLR1@NRC.GOV. An agenda will be available to the public and will be distributed to participants prior to the workshop. Contact the workshop facilitator, Chip Cameron, regarding the agenda and workshop location. Telephone: 301-415-1642; Internet: FXC@NRC.GOV.

SUPPLEMENTARY INFORMATION: In SECY-99-100, “Framework for Risk-informed Regulation in the Office of Nuclear Material Safety and Safeguards”, dated March 31, 1999, the NRC staff proposed a framework for risk-informed regulation in the Office of Nuclear Material Safety and Safeguards (NMSS). On June 28, 1999, the Commission approved the staff's proposal. In the associated staff requirements memorandum (SRM), the Commission approved the staff's recommendation to implement a five-step process consisting of:

(1) Identifying candidate regulatory applications that are amenable to expanded use of risk assessment information;

(2) Making a decision on how to modify a regulation or regulated activity;

(3) Changing current regulatory approaches;

(4) Implementing risk-informed approaches; and

(5) Developing or adapting existing tools and techniques of risk analysis to the regulation of nuclear materials safety and safeguards.

The focus of this workshop will be on (1) The process for identifying the specific regulatory applications that are amenable to expanded use of risk assessment information—step 1 of the five-step process—and (2) the process for developing appropriate nuclear materials safety goals. Step one of the five-step process will be accomplished by first defining screening criteria and then identifying regulatory application areas (e.g., licensing, inspection, rulemaking) that would be amenable to risk-informed approaches. These could, for example, include rulemaking activities, licensee performance assessment, or enforcement of regulatory requirements. Because of limited resources, the NRC staff is proposing a step-by-step approach, rather than a comprehensive reevaluation in all areas. The NRC staff's work to implement subsequent steps, namely steps 2 through 5 of the five-step process, will be prioritized based on safety, efficiency and effectiveness, and burden reduction.

The NRC staff proposes the following approach for step 1. A new regulatory application should meet the following draft screening criteria to be a candidate for expanded use of risk information:

1. A proposed risk-informed regulatory approach to a new licensing or inspection activity will resolve a question with respect to maintaining or improving the activity's safety basis, will improve the efficiency or the effectiveness of NRC processes, or will reduce unnecessary regulatory burden for the applicant or licensee;

2. Sufficient information (data), and analytical methods exist or can be developed to support risk-informing a regulation or regulatory activity;

3. Startup and implementation can be realized at a reasonable cost to the NRC and the applicant or licensee, and provide a net benefit. The net benefit will be considered to apply to the public, the applicant or licensee, and the NRC staff.

The NRC staff requests public comments on these draft criteria.

Related to the criteria, the NRC staff is also soliciting comments on the following items and questions. The intent of publishing these questions is to foster discussion about the issues at the workshop.

1. What specific applications or general areas of nuclear materials regulation do you believe NRC should focus its efforts in applying risk information to its regulatory framework, and why?

2. Will the various segments of the regulated community accept more risk-informed approaches in regulatory applications?

3. What factors should be considered in prioritizing NRC's efforts to systematically review regulatory activities for application of risk information?

4. How can data collection and processing information be enhanced without significant additional burden to licensees and applicants?

5. Could measures be made available under a more risk-informed approach which would allow the agency and the licensees to judge performance, recognize weaknesses, and provide opportunities for correction before significant safety issues or events occur?

6. What are the costs and benefits of risk-informing NMSS licensing and inspection activities?

In addition, in its SRM on SECY-99-100, the Commission directed the NRC staff to develop appropriate material safety goals analogous to the reactor safety goals and include, as a goal, the avoidance of property damage. The NRC staff will open a discussion on a process for developing material safety goals during this workshop with the following questions and considerations:

1. What are your perceptions of a safety goal for nuclear materials?

2. What would be an effective process for developing nuclear materials safety goals?

3. How can the safety goal development process contribute to improving the regulatory process by helping to identify and articulate the underlying safety philosophy and safety principles currently driving the spectrum of NMSS programs?

4. What factors should be considered in the development of nuclear materials safety goals?

5. What aspects of future nuclear material safety goals can or should be analogous to the reactor safety goals?

6. Should separate safety goals for each activity regulated under each program area be contemplated?

7. What areas will have the greatest impact as a result of having a safety goal or goals?

8. How resource intensive will it be to develop a safety goal or goals?

9. What would change as a result of having safety goals (lives saved, costs savings, increased public confidence)?

The workshop will be conducted in a “roundtable” format. In order to have a manageable discussion, the number of participants around the table will, of necessity, be limited. NRC, through the facilitator for the meeting, will attempt to ensure broad participation by the broad spectrum of interests at the meeting, including citizen and environmental groups, nuclear industry interests, state, tribal, and local governments, experts from academia, or other agencies. Other members of the public are welcome to attend, and the public will have the opportunity to comment on each agenda item to be discussed by the roundtable participants.

Dated at Rockville, MD, this 9th day of March, 2000.
For the Nuclear Regulatory Commission
Donald A. Cool,
Director, Division of Industrial and Medical.

Nuclear Safety, NMSS

[FR Doc. 00-6501 Filed 3-15-00; 8:45 am]

BILLING CODE 7590-01-P